FEDERAL COMMUNICATIONS COMMISSION

47 CFR Part 73

[DA 09-832; MB Docket No. 07-125; RM-11375, RM-11410]

Radio Broadcasting Services; Worthington, IN

AGENCY: Federal Communications Commission.

ACTION: Final rule.

SUMMARY: This document grants the counterproposal filed by L. Dean Spencer requesting the allotment of Channel 231A at Worthington, Indiana, as the community's first local aural transmission service. This counterproposal was filed in response to the Notice of Proposed Rule Making issued at the request of Bruce Quinn, requesting the allotment of Channel 231A at Oolitic, Indiana, as the community's second local aural transmission service. The coordinates for Channel 231A at Worthington, Indiana, are 39-00-31 NL and 86-55-05 WL. There is a site restriction of 14 kilometers (8.7 miles) south of the community. Proposed Channel 231A is short-spaced to the proposed site of Channel 230B1 at Clinton, Indiana, in MB Docket 05-67, which is pending on reconsideration. Accordingly, the grant of this allotment is subject to the outcome of the petition for reconsideration in MB Docket No. 05-67.

DATES: Effective Date: June 1, 2009.

ADDRESSES: Secretary, Federal Communications Commission, 445 Twelfth Street, SW., Washington, DC 20554.

FOR FURTHER INFORMATION CONTACT: Deborah A. Dupont, Media Bureau, (202) 418-2180.

SUPPLEMENTARY INFORMATION: This is a synopsis of the Commission's Report and Order, MB Docket No. 07-125, adopted April 15, 2009, and released April 17, 2009. The full text of this Commission decision is available for inspection and copying during normal business hours in the FCC's Reference Information Center at Portals II, CY-A257, 445 Twelfth Street, SW., Washington, DC 20554. This matter was initiated by a Notice of Proposed Rule Making, 73 FR 57268 (October 2, 2008). This document may also be purchased from the Commission's duplicating contractors, Best Copy and Printing, Inc., 445 12th Street, SW., Room CY-B402, Washington, DC 20554, telephone 800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Indiana, is amended by adding Worthington, Channel 231A.

Federal Communications Commission.
John A. Karousos,
Assistant Chief, Audio Division, Media Bureau.

[FR Doc. E9-10198 Filed 5-1-09; 8:45 am]

BILLING CODE 6712-01-P